FEDERAL COMMUNICATIONS COMMISSION

Notice of Public Information Collection(s) Being Reviewed by the Federal Communications Commission

August 18, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility; and clarity of the information collected; and (d) ways to minimize the burden of the collection of information on the respondents, including the use of automated collection techniques or other forms of information technology.

DATES: Written comments should be submitted on or before October 24, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to Leslie.Smith@fcc.gov.

FOR FURTHER INFORMATION CONTACT: For additional information or copies of the information collection(s) contact Les Smith at (202) 418-0217 or via the Internet at Leslie.Smith@fcc.gov.

SUPPLEMENTARY INFORMATION: OMB Control Number: 3060-XXXX.

Title: Telecommunication Relay Services and Speech-to-Speech Services for Individual with Hearing and Speech Disabilities, CC Docket No. 98-67 (Second Report and Order, Order on Reconsideration), FCC 03-112.

Form Number: N/A.

Type of Review: New collection.

Respondents: Business or other for-profit entities.

Number of Respondents: 5,053.

Estimated Time per Response: 5.311 hours (average).

Frequency of Response: On occasion reporting requirements.

Total Annual Burden: 26,837 hours.

Total Annual Cost: None.

Needs and Uses: On June 17, 2003, the Commission released the Second Report and Order, (“Report and Order”), Order on Reconsideration, In the Matter of Telecommunication Relay Services and Speech-to-Speech Services for Individuals with Hearing and Speech Disabilities, CC 98-67, FCC 03-112. In the Report and Order, the Commission establishes new rules and amends existing rules governing TRS to further advance the functional equivalency mandate of section 225. The Report and Order also revises the requirements for handling emergency calls. In the Order on Reconsideration, the Commission provides clarify requirements for Communication Assistants, the speed of answer requirement and clarify certain procedural matters regarding TRS-related information to improve the usability of TRS for all Americans. On June 17, 2003, the Commission also released a Notice of Proposed Rulemaking, In the Matter of Telecommunication Relay Services and Speech-to-Speech Services for Individuals with Hearing and Speech Disabilities, CG Docket No. 03-123, FCC 03-112, that proposed rules in section 64.604 (c)(5)(iii) regarding certification for TRS providers to be eligible for receiving payments from the Interstate TRS Fund and proposed to revise section 64.605 of the Commission rules. These proposed rules are also seeking OMB approval for the new collection associated with the Second Report and Order, Order on Reconsideration, CC Docket No. 98-67, FCC 03-112.

Federal Communications Commission.
Marlene H. Dortch,
Secretary.

[FR Doc. 03-21621 Filed 8-22-03; 8:45 am]

BILLING CODE 6712-01-P